DEPARTMENT OF THE INTERIOR

National Park Service

[NPS-WASO-NAGPRA-NPS0037086; PPWOCRADN0-PCU00RP14.R50000]

Notice of Inventory Completion: South Carolina Institute of Archaeology and Anthropology, University of South Carolina, Columbia, SC

AGENCY: National Park Service, Interior.

ACTION: Notice.

SUMMARY: In accordance with the Native American Graves Protection and Repatriation Act (NAGPRA), the South Carolina Institute of Archaeology and Anthropology (SCIAA) has completed an inventory of human remains and associated funerary objects and has determined that there is a cultural affiliation between the human remains and associated funerary objects and Indian Tribes or Native Hawaiian organizations in this notice. The human remains and associated funerary objects were removed from Chester, Fairfield, Kershaw, Orangeburg, and Unknown Counties, SC.

DATES: Repatriation of the human remains and associated funerary objects in this notice may occur on or after January 18, 2024.

ADDRESSES: Nina Schreiner, South Carolina Institute of Archaeology and Anthropology (SCIAA), College of Arts and Sciences, University of South Carolina, 1321 Pendleton Street, Columbia, SC 29208, email Schreinn@email.sc.edu.

SUPPLEMENTARY INFORMATION: This notice is published as part of the National Park Service's administrative responsibilities under NAGPRA. The determinations in this notice are the sole responsibility of the SCIAA. The National Park Service is not responsible for the determinations in this notice. Additional information on the determinations in this notice, including the results of consultation, can be found in the inventory or related records held by the SCIAA.

Description

In 1971, human remains representing, at minimum, one individual were removed from site 38CS2, Turkey Creek/McCollum Mound, Chester County, SC, by Mr. Thomas M. Ryan of SCIAA, with permission of property owner, Lockhart Power Company of Lockhart, SC. The four funerary objects are one lot consisting of shell material, one lot consisting of faunal material, one lot consisting of ceramic material, and one lot consisting of lithic material.

At an unknown date, human remains representing, at minimum, two individuals were removed from the same site, 38CS2, Chester County, SC, by Mr. John R. Hart and Boy Scout Troop 35 of York, SC. Hart transferred the collection to SCIAA in 1980. The three funerary objects are one lot consisting of charcoal, one lot consisting of lithic material, and one lot consisting of faunal material.

In 1992, human remains representing, at minimum, three individuals were removed from site 38FA204/205, Bear Creek, Fairfield County, SC, by Southeastern Archaeological Services (SAS), Inc., of Athens, Georgia under contract with Kennecott-Ridgeway Mining Company of Ridgeway, South Carolina. SAS transferred them to SCIAA in 1994. The one associated funerary object is one lot consisting of lithic material.

In 1985, human remains representing, at minimum, one individual were removed from site 38KE11, Adamson Mounds, Kershaw County, SC, by Dr. Chester B. DePratter and Mr. Christopher Judge of the Department of Anthropology, University of South Carolina, Columbia with permission of the property owner. The Department of Anthropology transferred them to SCIAA in 1988. The three funerary objects are one lot consisting of faunal material, one lot consisting of lithic material, and one lot consisting of ceramic material.

In 1951-52, one associated funerary object, a ceramic urn was removed from site 38KE11, Adamson Mounds, Kershaw County, SC, by an unknown individual and given to Mr. George Stuart, graduate student at the University of North Carolina at Chapel Hill (UNC-CH). Stuart transferred the object to UNC-CH Research Labs of Archaeology (RLA) in 1975. Stuart acquired three additional associated funerary objects, one lot consisting of ceramic material, one lot consisting of shell material, and one lot consisting of lithic material, from 38KE11 at an unknown date and transferred them to RLA in 2012. RLA transferred the four associated funerary objects to SCIAA in 2023 to facilitate consultation and repatriation pursuant to, and in accordance with, the Native American Graves Protection and Repatriation Act.

In 1991, human remains representing, at minimum, 23 individuals were removed from site 38KE18, Ferry Landing, Kershaw County, SC, by Dr. Chester B. DePratter and Dr. Ted A. Rathbun of SCIAA and the Department of Anthropology, University of South Carolina, Columbia with permission of the property owner. The five associated funerary objects are one lot consisting of ceramic material, one lot consisting of lithic material, one lot consisting of shell material, one lot consisting of botanical material, and one lot consisting of soil.

In 1986, human remains representing, at minimum, one individual were removed from site 38OR122, SCHD Orangeburg 7, Orangeburg County, SC, by Ms. Olga Caballero of the South Carolina Department of Highways and Public Transportation during the U.S. 21 Borrow Pit Nos. 1 and 2 investigations. SCHDPT transferred the collection to SCIAA in 1987. No associated funerary objects are present.

At an unknown time, human remains representing, at minimum, one individual were removed from an unknown location in South Carolina by unknown means. The date of SCIAA acquisition is unknown. No associated funerary objects are present.

At an unknown time, human remains representing, at minimum, four individuals were removed from an unknown location by unknown means. In 1976, the estate of Mr. John A. May of Aiken, SC transferred them to the South Carolina State Museum in Columbia, SC. The State Museum transferred them to SCIAA in 1994. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, and historical information.

Determinations

Pursuant to NAGPRA and its implementing regulations, and after consultation with the appropriate Indian Tribes and Native Hawaiian organizations, the SCIAA has determined that:

• The human remains described in this notice represent the physical remains of 36 individuals of Native American ancestry.

• The 20 objects described in this notice are reasonably believed to have been placed with or near individual human remains at the time of death or later as part of the death rite or ceremony.

• There is a relationship of shared group identity that can be reasonably traced between the human remains and associated funerary objects described in this notice and the Catawba Indian Nation; Cherokee Nation; Eastern Band of Cherokee Indians; The Muscogee (Creek) Nation; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, the SCIAA must determine the most appropriate requestor prior to repatriation. Requests for joint repatriation of the human remains and associated funerary objects are considered a single request and not competing requests. The SCIAA is responsible for sending a copy of this notice to the Indian Tribes and Native Hawaiian organizations identified in this notice.

Authority: Native American Graves Protection and Repatriation Act, 25 U.S.C. 3003, and the implementing regulations, 43 CFR 10.9, 10.10, and 10.14.

Dated: December 8, 2023.
Melanie O'Brien,
Manager, National NAGPRA Program.

[FR Doc. 2023-27793 Filed 12-18-23; 8:45 am]

BILLING CODE 4312-52-P